DEPARTMENT OF ENERGY

Federal Energy Regulatory Commission

[FERC Docket No. CP09-54-000]

Ruby Pipeline, L.L.C.; Notice of Availability of the Final Environmental Impact Statement for the Proposed Ruby Pipeline Project

January 8, 2010.

The staff of the Federal Energy Regulatory Commission (Commission or FERC) has prepared a final Environmental Impact Statement (EIS) for the Ruby Pipeline Project proposed by Ruby Pipeline, L.L.C. (Ruby) in the above-referenced docket. Ruby requests authorization to construct a new pipeline in Wyoming, Utah, Nevada, and Oregon to transport up to 1.5 million dekatherms per day of natural gas from southwestern Wyoming to customers in Nevada and on the West Coast (Washington, Oregon, and northern California).

The final EIS assesses the potential environmental effects of the construction and operation of the Ruby Pipeline Project in accordance with the requirements of the National Environmental Policy Act of 1969 (NEPA). The FERC staff concludes that approval of the proposed project, with the mitigation measures recommended in the EIS and the additional measures and agreements being developed by Ruby with other agencies, would have some adverse environmental impacts; however, most impacts would be reduced to less-than-significant levels.

The following agencies participated as cooperating agencies in the preparation of the EIS:

• Bureau of Land Management (BLM);

• Bureau of Reclamation;

• U.S. Fish and Wildlife Service;

• U.S. Forest Service (USFS);

• Natural Resources Conservation Service;

• U.S. Army Corps of Engineers;

• State of Utah Public Lands Policy Coordination Office; and

• Board of County Commissioners in Lincoln County, Wyoming.

Cooperating agencies have jurisdiction by law or special expertise with respect to resources potentially affect by the proposal and participate in the NEPA analysis. While the conclusions and recommendations presented in the EIS were developed with input from the cooperating agencies, the agencies will present their own conclusions and recommendations in their respective Records of Decision for the project.

The final EIS addresses the potential environmental effects of the construction and operation of the following project facilities:

• About 675.2 miles of 42-inch-diameter mainline pipeline;

• About 2.6 miles of 42-inch-diameter lateral pipeline;

• An electric-powered compressor station and 3 natural gas-powered compressor stations (totaling 160,500 horsepower of new compression);

• 5 meter stations containing interconnects to other pipeline systems;

• 44 mainline valves;

• 20 pig launchers or receivers; and

• 4 new communication towers.

The final EIS has been placed in the public files of the FERC and is available for public viewing on the FERC's Web site at http://www.ferc.gov. A limited number of copies are available for distribution and public inspection at: Federal Regulatory Energy Commission, Public Reference Room, 888 First St., NE.; Room 2A, Washington, DC 20426, (202) 502-8371.

Copies of the EIS have been mailed to Federal, State, and local government agencies; elected officials; Native American tribes; local libraries and newspapers; parties to the Commission's proceeding; individuals who provided scoping comments or commented on the draft EIS; and individuals who requested to remain on the environmental mailing list for this project. Hard copy versions of the EIS were mailed to those specifically requesting them; all others received a CD-ROM version.

Additional information about the project is available from the Commission's Office of External Affairs, at 1-866-208-FERC (3372) or on the FERC Web site (http://www.ferc.gov) using the eLibrary link. Click on the eLibrary link, click on “General Search” and enter the docket number excluding the last three digits in the Docket Number field (i.e., CP09-54). Be sure you have selected an appropriate date range. For assistance, please contact FERC Online Support at FERCOnlineSupport@ferc.gov or toll free at 1-866-208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to http://www.ferc.gov/esubscribenow.htm.

The BLM and USFS will issue separate Records of Decision for this project. As part of the BLM and USFS decision-making processes, certain additional steps must be completed. Details on how to participate in those processes are provided below.

BLM Record of Decision

The BLM is soliciting comments on the final EIS specific to impacts on lands administered by the BLM. If you wish to submit written comments on the final EIS to the BLM for consideration in its Record of Decision, they must be submitted within 30 calendar days from the date that the Environmental Protection Agency publishes the Notice of Availability of the Ruby Pipeline Project final EIS. You may use any of the following methods:

Web site: http://www.blm.gov/nv/st/en/info/nepa/ruby_pipeline_project.html.

E-mail: blmruby@blm.gov.

Mail: Mark Mackiewicz, National Project Manager, Bureau of Land Management, Washington Office, c/o Price Field Office, 125 South 600 West, Price, UT 84501.

Phone: (435) 636-3616.

USFS Draft Record of Decision

The Forest Supervisor of the Fremont-Winema National Forests has determined that the Forest Plan amendments discussed in section 1.5.1 of the final EIS are not significant and may be implemented if the BLM grants the right-of-way for the Ruby pipeline to cross the Fremont National Forest. This decision is being based on the final EIS for the Ruby Pipeline Project, the FERC consolidated public record for the Ruby Pipeline Project, and the Ruby Pipeline Evaluation Report for Forest Plan Amendments (see Appendix C of the final EIS). A copy of the draft Record of Decision can be obtained by any of the following methods:

Web site: http://www.fs.fed.us/r6/frewin/projects/analyses/index.shtml.

E-mail: gwestlund@fs.fed.us.

Mail: Glen Westlund, Fremont-Winema Environmental Coordinator, 2819 Dahlia Street, Klamath Falls, OR 97601.

Phone: (541) 883-6743.

This USFS decision is subject to objection pursuant to the provisions available during the planning rule transition period as described at Title 36 Code of Federal Regulations (CFR), Part 219, Section 219.35(b) (published in the Federal Register [FR] at 65 FR 67514 [November 9, 2000]; see also 36 CFR 219 Interpretive Rule published at 66 FR 1864 [January 10, 2001]) and found at http://www.fs.fed.us/appeals/appeals_related.php#app_work. The objection procedures found at 36 CFR 219.32 (published in the Federal Register at 65 FR 67578 [November 9, 2000]) apply.

The objection to the USFS decision must be filed within 30 calendar days from the date that the Environmental Protection Agency publishes the Notice of Availability of the Ruby Pipeline Project final EIS. Within 10 days after the close of the objection period, the Fremont-Winema National Forest shall publish notice of all objections in the Klamath Falls Herald and News, the paper of record.

The objection to the USFS decision must be filed with the Reviewing Officer, Mary Wagner, Regional Forester, ATTN 1570 Objections, P.O. Box 3623, Portland, OR 97208-3623 and must contain:

(1) The name, mailing address, and telephone number of the person filing the objection;

(2) A specific statement of the basis for each objection; and

(3) A description of the objector's participation in the planning process for the proposed amendment, including a copy of any relevant documents submitted during the planning process.

The street location for hand delivery of the objection to the USFS decision is: 333 SW 1st Ave, Portland, OR (office hours: 8-4:30 M-F). Send faxes to 503-808-2255. The objection may be e-mailed to: appeals-pacificnorthwest-regional-office@fs.fed.us. For electronically mailed appeals, the sender should normally receive an automated electronic acknowledgement from the agency as confirmation of receipt. If the sender does not receive an automated receipt acknowledgement of the comments, it is the sender's responsibility to ensure timely receipt by other means.

Should you file an objection with the USFS regarding its decision you may request meetings with the reviewing officer and the responsible official to discuss the objection, to narrow the issues, agree on facts, and explore opportunities for resolution. Other interested persons may participate in such meetings provided they file a request to participate in an objection within ten days after publication of the notice of objection described above.

Kimberly D. Bose,
Secretary.

[FR Doc. 2010-923 Filed 1-19-10; 8:45 am]

BILLING CODE 6717-01-P